DEPARTMENT OF THE INTERIOR

Bureau of Land Management

[LLUT91000-L11400000-PH0000-24-1A]

Notice of Utah's Resource Advisory Council (RAC)/Recreation RAC Meeting

AGENCY: Bureau of Land Management, Department of Interior.

ACTION: Notice of Utah's Resource Advisory Council (RAC)/Recreation RAC Meeting.

SUMMARY: In accordance with the Federal Land Policy and Management Act (FLPMA) and the Federal Advisory Committee Act of 1972 (FACA), the U.S. Department of the Interior, Bureau of Land Management's (BLM) Utah Resource Advisory Council (RAC)/Recreation RAC will meet as indicated below.

DATES: The Utah Resource Advisory Council (RAC)/Recreation RAC will meet June 19 (8:30 a.m.-4 p.m.) in Salt Lake City, Utah.

ADDRESSES: The Council will meet at the Radisson Hotel (Wasatch 4 meeting room), 215 West South Temple, Salt Lake City, Utah.

FOR FURTHER INFORMATION CONTACT: Contact Sherry Foot, Special Programs Coordinator, Utah State Office, Bureau of Land Management, P.O. Box 45155, Salt Lake City, Utah 84145-0155; phone (801) 539-4195.

SUPPLEMENTARY INFORMATION: The 15-member Council advises the Secretary of the Interior, through the Bureau of Land Management, on a variety of planning and management issues associated with public land management in Utah. Planned agenda topics include a welcome and introduction of new Council members; an update of Utah-BLM issues; and, recreation fee increase proposals from the Bureau of Land Management (Sand Flats Recreation Area and Moab campgrounds) and U.S. Forest Service (Christmas tree permit fee increases) for the RAC's approval. A half-hour public comment period, where the public may address the Council, is scheduled from 3:15 p.m.-3:45 p.m. Written comments may be sent to the Bureau of Land Management addressed listed above. All meetings are open to the public; however, transportation, lodging, and meals are the responsibility of the participating public.

Dated: May 5, 2009.
Selma Sierra,
State Director.

[FR Doc. E9-11023 Filed 5-11-09; 8:45 am]

BILLING CODE 4310-DQ-P